DEPARTMENT OF HOUSING AND URBAN DEVELOPMENT

[Docket No. FR-5100-FA-07]

Announcement of Funding Awards for the Section 202 Supportive Housing for the Elderly Program Fiscal Year 2007

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Section 202 Supportive Housing for the Elderly Program. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Section 202 Supportive Housing for the Elderly Program is authorized by Section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); and the Revised Continuing Appropriations Resolution, 2007 (Pub. L. 110-5; approved February 15, 2007).

The competition was announced in the SuperNOFA published in the Federal Register on March 13, 2007, 72 FR 11434. Applications were rated and selected for funding on the basis of selection criteria contained in that Notice.

The Catalog of Federal Domestic Assistance number for this program is 14.157.

The Section 202 program is the Department's primary program for providing affordable housing for the elderly that allows them to live independently with supportive services. Under this program, HUD provides funds to private non-profit organizations to develop supportive housing for the elderly. Funds are also provided to subsidize the expenses to operate the housing projects.

A total of $518,889,900 was awarded to 104 projects for 3,857 units nationwide. In accordance with section 102(a)(4)(C) of the Department of Housing and Urban Development Reform Act of 1989 (103 Stat. 1987. 42 U.S.C. 3545), the Department is publishing the grantees and amounts of the awards in Appendix A of this document.

Dated: May 1, 2009.
Brian Montgomery,
Assistant Secretary for Housing—Federal Housing Commissioner.

FY 2007 Selections, Section 202 Supportive Housing for the Elderly
ALABAMA
Northport, AL, Presbytery of Sheppards and Lapsley, Capital Advance: $3,873,500, Three-year rental subsidy: $379,500, Number of units: 42 | Theodore, AL, AHEPA National Housing Corporation, Capital Advance: $5,233,800, Three-year rental subsidy: $379,500, Number of units: 42.
ARIZONA
Phoenix, AZ, National Farm Workers Service Center, Inc., Capital Advance: $4,755,100, Three-year rental subsidy: $460,200, Number of units: 49 | Phoenix, AZ, Phoenix Chinese Senior Citizens Association, Capital Advance: $5,005,800, Three-year rental subsidy: $393,300, Number of units: 42.
ARKANSAS
Harrison, AR, Northwest Regional Housing Dev. Corp, Capital Advance: $1,234,000, Three-year rental subsidy: $117,600, Number of units: 14 | Visalia, CA, CCHNC, Co-Sponsor Visalia Senior Housing, Inc., Capital Advance: $5,693,800, Three-year rental subsidy: $727,800, Number of units: 43.
Pocahontas, AR, Pocahontas Senior Housing, Inc., Capital Advance: $1,234,000, Three-year rental subsidy: $117,600, Number of units: 14 |
CALIFORNIA
Fontana, CA, Elderly Hsg Development & Operations Corp, Capital Advance: $8,594,700, Three-year rental subsidy: $916,500, Number of units: 60 | San Bernardino, CA, TELACU, Capital Advance: $10,735,700, Three-year rental subsidy: $1,149,600, Number of units: 75.
Hemet, CA, WASET, Inc., Capital Advance: $9,308,400, Three-year rental subsidy: $994,200, Number of units: 65 | San Leandro, CA, Eden Housing, Inc., Capital Advance: $7,310,100, Three-year rental subsidy: $866,400, Number of units: 51.
Los Angeles, CA, Menorah Housing Foundation, Capital Advance: $6,596,500, Three-year rental subsidy: $699,300, Number of units: 46 | San Ramon, CA, ABHOW, Capital Advance: $12,282,400, Three-year rental subsidy: $1,542,000, Number of units: 90.
Oakland, CA, CCHNC, Capital Advance: $8,606,900, Three-year rental subsidy: $1,056,900, Number of units: 62 | Visalia, CA, CCHNC, Co-Sponsor Visalia Senior Housing, Inc., Capital Advance: $5,693,800, Three-year rental subsidy: $727,800, Number of units: 43.
COLORADO
Carbondale, CO, Carbondale Senior Housing Corp., Capital Advance: $2,046,300, Three-year rental subsidy: $155,700, Number of units: 15 | Durango, CO, VOA National Services, Capital Advance: $3,438,600, Three-year rental subsidy: $249,000, Number of units: 25.
FLORIDA
Pinellas Park, FL, Diocese of Southwest Florida, Capital Advance: $12, 560,400, Three-year rental subsidy: $744,900, Number of units: 88 | Tampa, FL, Diocese of St. Petersburg, Co-Sponsor: Catholic Charities, Capital Advance: $9,705,700, Three-year rental subsidy: $575,700, Number of units: 68.
GEORGIA
Albany, GA, Innovative Housing Initiatives, Capital Advance: $2,228,900, Three-year rental subsidy: $221,700, Number of units: 24 | Cairo, GA, Family Worship Center Church of God, Capital Advance: $1,578,800, Three-year rental subsidy: $157,200, Number of units: 17.
HAWAII
Kapolei, HI, Pacific Housing Assistance Corporation, Capital Advance: $3,952,500, Three-year rental subsidy: $272,400, Number of units: 20 |
ILLINOIS
Chicago, IL, NHS Redevl Corp., Capital Advance: $8,563,900, Three-year rental subsidy: $655,500, Number of units: 60 | Chicago, IL, Habilitative Systems, Inc., Capital Advance: $8,594, 700, Three-year rental subsidy: $655,500, Number of units: 60.
INDIANA
Georgetown, IN, Guerin, Inc., Capital Advance: $2,499,600, Three-year rental subsidy: $250,500, Number of units: 25 | Indianapolis, IN, Mount Paran Baptist Church, Capital Advance: $5,182,600, Three-year rental subsidy: $511,500, Number of units: 50.
KENTUCKY
Elkhorn City, KY, Pike Co Affordable Hsg Devl, Capital Advance: $1,809, 400, Three-year rental subsidy: $156,900, Number of units: 16 | Louisville, KY, Catholic Charities of Louisville, Capital Advance: $3,490,300, Three-year rental subsidy: $333,300, Number of units: 34.
LOUISIANA
Albany, LA, Presbytery of South Louisiana, Capital Advance: $717,700, Three-year rental subsidy: $70,200, Number of units: 8 | New Orleans, LA, AHEPA National Housing Corporation, Capital Advance: $4,202,900, Three-year rental subsidy: $385,200, Number of units: 44.
Basile, LA, Diocese of Lafayette, Capital Advance: $1,095,100, Three-year rental subsidy: $96,300, Number of units: 12 | Vinton, LA, Calcasieu Council on Aging, Capital Advance: $1,005,500, Three-year rental subsidy: $96,300, Number of units: 12.
Monroe, LA, Ouachita Council on Aging, Inc., Capital Advance: $3,116,700, Three-year rental subsidy: $325,200, Number of units: 36 |
MAINE
Bangor, ME, VOANNE, Capital Advance: $5,138,300, Three-year rental subsidy: $400,200, Number of units: 36 |
MARYLAND
Baltimore, MD, Associated Catholic Charities, Capital Advance: $5,958,500, Three-year rental subsidy: $613,500, Number of units: 54 | Havre de Grace, MD, St. Johns Church, Capital Advance: $5,958,500, Three-year rental subsidy: $613,500, Number of units: 54.
MASSACHUSETTS
Auburn, MA, Elder Services of Worcester Area, Inc., Co-Sponsor Kateri Tekakwitha Development, Inc., Capital Advance: $4,281,900, Three-year rental subsidy: $438, 300, Number of units: 30 | Lee, MA, Elder Services of Berkshire County, Inc., Capital Advance: $1,855,500, Three-year rental subsidy: $189,900, Number of units: 13.
Billerica, MA, Planning Office for Urban Affairs, Inc., Capital Advance: $4,774,700, Three-year rental subsidy: $496,800, Number of units: 35 | Mattapan, MA, ETC Development Corporation, Co-Sponsor Inquilinos Boricuas en Accion, Inc., Capital Advance: $4,281,900, Three-year rental subsidy: $438,300, Number of units: 30.
Holyoke, MA, MERCY HOUSING INC., Co-Sponsor: The Congregation of the Sisters of St. Joseph, Capital Advance: $4,281,900, Three-year rental subsidy: $438,300, Number of units: 30 | Townsend, MA, RCAP Solutions, Inc., Capital Advance: $5,039,500, Three-year rental subsidy: $525,900, Number of units: 36.
MICHIGAN
Jackson, MI, Presbyterian Villages of Michigan, Capital Advance: $3,510,300, Three-year rental subsidy: $379,800, Number of units: 40 |
MINNESOTA
Bloomington, MN, AHEPA, Capital Advance: $4,231,100, Three-year rental subsidy: $408,900, Number of units: 36 | Worthington, MN, Accessible Space, Capital Advance: $2,156,500, Three-year rental subsidy: $204,600, Number of units: 19.
Robbinsdale, MN, Commonbond Communities, Capital Advance: $4,231,100, Three-year rental subsidy: $408,900, Number of units: 36 |
MISSISSIPPI
Jackson, MS, People with Vision, Inc., Capital Advance: $1,770,500, Three-year rental subsidy: $177,000, Number of units: 20 |
MISSOURI
Kansas City, MO, Harvest Church, Inc., Capital Advance: $4,932,100, Three-year rental subsidy: $489,900, Number of units: 47 | St. Louis, MO, AHEP National Housing Corporation, Capital Advance: $4,787,000, Three-year rental subsidy: $448,800, Number of units: 40.
Kansas City, MO, Catholic Charities of Kansas City-St. Joseph, Inc., Capital Advance: $5,160,300, Three-year rental subsidy: $489,900, Number of units: 47 |
MONTANA
Billings, MT, VOA National Services, Capital Advance: $6911,100, Three-year rental subsidy: $613,800, Number of units: 65 |
NEBRASKA
Papillion, NE, Immanuel Health Systems, Capital Advance: $2,046,300, Three-year rental subsidy: $192,000, Number of units: 20 |
NEW HAMPSHIRE
Bristol, NH, SNHS Management Corporation, Capital Advance: $2,711,900, Three-year rental subsidy: $211,200, Number of units: 19 | Swanzey, NH, Southwestern Community Services, Inc., Capital Advance: $2,711,900, Three-year rental subsidy: $21,200, Number of units: 19.
Pembroke, NH, Belknap-Merrimack CAP, Capital Advance: $2,426,400, Three-year rental subsidy: $189,000, Number of units: 17 |
NEW JERSEY
Manchester Twp, NJ, PHS Senior Living, Inc., Capital Advance: $11,835,400, Three-year rental subsidy: $1,260,300, Number of units: 84 | Pleasantville, NJ, The Diocesan Hsg Ser Corp, Co-Sponsor Cath Char, Dioc of Camden, Inc., Capital Advance: $10,552,200, Three-year rental subsidy: $1,108,500, Number of units: 74.
Pleasantville, NJ, CARING, Inc., Co-Sponsor: CARING House Projects, Inc., Capital Advance: $3,696,700, Three-year rental subsidy: $394,800, Number of units: 26 |
NEW MEXICO
Albuquerque, NM, Elderly Hsg Dev and Operations Corp., Capital Advance: $3,623,200, Three-year rental subsidy: $383,700, Number of units: |
NEW YORK
Amagansett, NY, Windmill Housing Development Fund Co., Inc., Capital Advance: $5,882,800, Three-year rental subsidy: $891,600, Number of units: 41 | Brooklyn, NY, Community Partners Commission Association, Co-Sponsor: East New York Council for the Aging, Capital Advance: $7,237,300, Three-year rental subsidy: $1,114,500, Number of units: 51.
Angola, NY, People, Inc., Capital Advance: $3,682,400, Three-year rental subsidy: $337,800, Number of units: 30 | New Rochelle, NY, Westhab, Inc., Co-Sponsor: Shiloh Community Development Corporation, Capital Advance: $5,740,100, Three-year rental subsidy: $869,400, Number of units: 40.
New York, NY, Harlem Congregations for Community Improvement, Capital Advance: $9,451,100, Three-year rental subsidy: $1449,000, Number of units: 66 | Orchard Park, NY, People, Inc., Capital Advance: $5,266,700, Three-year rental subsidy: $489,000, Number of units: 43.
Queens, NY, Metro NY Coordination Council, Capital Advance: $11,163,900, Three-year rental subsidy: $1,716,300, Number of units: 78 | Rochester, NY, Providence Hsg Devl Corp., Capital Advance: $3,876,800, Three-year rental subsidy: $384,300, Number of units: 33.
NORTH CAROLINA
Albemarle, NC, John H. Wellons FND Inc., Capital Advance: $2,984,400, Three-year rental subsidy: $235,500, Number of units: 24 |
OHIO
Cincinnati, OH, Clermont Senior Services, Capital Advance: $4,891,300, Three-year rental subsidy: $473,100, Number of units: 45 | Tallmadge, OH, AHEPA National Housing Corporation, Capital Advance: $5,626,900, Three-year rental subsidy: $585,600, Number of units: 50.
Cleveland, OH, Catholic Charities Housing Corp., Capital Advance: $4,501,500, Three-year rental subsidy: $468,300, Number of units: 40 | Trenton, OH, Franklin Foundation, Inc., Co-Sponsor: The Freedom House, Church of God, Capital Advance: $2,514,700, Three-year rental subsidy: $241,800, Number of units: 24.
Cleveland, OH, Catholic Charities Housing Corp., Capital Advance: $4,501,500, Three-year rental subsidy: $468,300, Number of units: 40 | Warren, OH, Trumbull Housing Development Corporation, Capital Advance: $4,501,500, Three-year rental subsidy: $468,300, Number of units: 40.
OKLAHOMA
Ardmore, OK, Big Five Community Services, Inc., Capital Advance: $1,226,700, Three-year rental subsidy: $126,600, Number of units: 14 | Lawton, OK, Lawton Support Services, Inc., Capital Advance: $3,084,900, Three-year rental subsidy: $307,200, Number of units: 35.
Hobart, OK, Searchlight Center Inc,, Capital Advance: $1,278,100, Three-year rental subsidy: $126,600, Number of units: 14 |
PENNSYLVANIA
Clearfield, PA, Central PA Devl Corp., Capital Advance: $1,278,100, Three-year rental subsidy: $127,200, Number of units: 12 | Homestead, PA, LifeSpan, Inc., Capital Advance: $891,500, Three-year rental subsidy: $84,900, Number of units: 8.
Greenville, PA, Comm. Action Partnership of Mercer County, Capital Advance: $2,563,100, Three-year rental subsidy: $243,600, Number of units: 23 | Philadelphia, PA, Salvation Army, a NY Corp., Capital Advance: $7,230,300, Three-year rental subsidy: $809,100, Number of units: 53.
Somerset, PA, Allegheny LUTH SOC MNSTR, Capital Advance: $3,566,100, Three-year rental subsidy: $339,000, Number of units: 32 |
RHODE ISLAND
Little Compton, RI, Church Community Housing Corporation, Capital Advance: $2,854,600, Three-year rental subsidy: $272,400, Number of units: 20 |
Providence, RI, SWAP, Inc., Capital Advance: $3,140,100, Three-year rental subsidy: $299,400, Number of units: 22 |
SOUTH CAROLINA
Columbia, SC, AHEPA National Housing Corporation, Capital Advance: $4,756,200, Three-year rental subsidy: $343,200, Number of units: 38 | Florence, SC, John H. Wellons FND Inc., Capital Advance: $4,546,000, Three-year rental subsidy: $343,200, Number of units: 38.
Easley, SC, Metropolitan Housing and CDC, Inc., Capital Advance: $4,546,000, Three-year rental subsidy: $343,200, Number of units: 38 | Greer, SC, Volunteers of America National Services, Capital Advance: $4,756,200, Three-year rental subsidy: $334,200, Number of units: 38.
SOUTH DAKOTA
North Sioux City, SD, LUTH SOC Services of South Dakota, Capital Advance: $2,036,200, Three-year rental subsidy: $175,200, Number of units: 21 |
TENNESSEE
Bristol, TN, Miligan College, Capital Advance: $1,943,300, Three-year rental subsidy: $180,600, Number of units: 20 | Huntsville, TN, Douglas Cherokee Economic Authority, Inc., Capital Advance: $778,800, Three-year rental subsidy: $72,300, Number of units: 8.
TEXAS
Austin, TX, Chestnut Neighborhood Revitalization Corporation, Capital Advance: $2,000,100, Three-year rental subsidy: $189,000, Number of units: 22 | Houston, TX, Pilgrim Senior Citz Hsg Devl Corp, Capital Advance: $3,579,200, Three-year rental subsidy: $389,400, Number of units: 40.
Dallas, TX, St. Catherine of Siena, Inc., Capital Advance: $6,269,500, Three-year rental subsidy: $666,600, Number of units: 69 |
VIRGINIA
Bedford, VA, Metropolitan Housing & CDC, Inc., Capital Advance: $4,853,400, Three-year rental subsidy: $507,900, Number of units: 50 | Urbanna, VA, Bay Aging, Capital Advance: $1,164,800, Three-year rental subsidy: $122,100, Number of units: 12.
Norfolk, VA, Retirement Housing Foundation, Capital Advance: $3,902,700, Three-year rental subsidy: $396,300, Number of units: 40 |
WASHINGTON
Federal Way, WA, Korean Women's Association, Capital Advance: $7,855,500, Three-year rental subsidy: $736,800, Number of units: 62 | Spokane, WA, Spokane Baptist Association Homes, Capital Advance: $4,128,200, Three-year rental subsidy: $427,200, Number of units: 40.
Lynwood, WA, American Baptist Homes, Capital Advance: $5,077,700, Three-year rental subsidy: $471,300, Number of units: 40 |
WEST VIRGINIA
Terra Alta, WV, Garrett Co Comm Action Committee, Inc., Co-Sponsor N Central WV Comm Action Assoc, Inc., Capital Advance: $2,308,600, Three-year rental subsidy: $218,700, Number of units: 20 |
WISCONSIN
Pittsville, WI, Impact Seven INC, Capital Advance: $1,107,600, Three-year rental subsidy: $106,500, Number of units: 10 |

[FR Doc. E9-11093 Filed 5-12-09; 8:45 am]

BILLING CODE 4210-67-P